FEDERAL DEPOSIT INSURANCE CORPORATION

[OMB No. 3064-0018; -0165]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collections described below (OMB Control No. 3064-0018; and -0165).

DATES: Comments must be submitted on or before October 15, 2021.

ADDRESSES: Interested parties are invited to submit written comments to the FDIC by any of the following methods:

• Agency Website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION: Proposal to renew the following currently approved collections of information:

1. Title: Application Pursuant to Section 19 of the Federal Deposit Insurance Act.

OMB Number: 3064-0018.

Form Number: 6710-07.

Affected Public: Individuals and FDIC-insured depository institutions.

Burden Estimate:

Summary of Annual Burden
Information collection description | Type of burden | Obligation to respond | Estimated number of respondents | Estimated average frequency of response | Estimated time per response (hours) | Estimated annual burden (hours)
Application Pursuant to Section 19 of the Federal Deposit Insurance Act | Reporting | Mandatory | 73 | 1 | 16 hours | 1,168 hours

Total Estimated Annual Burden: 1,168 hours.

General Description of Collection: Section 19 of the Federal Deposit Insurance Act (FDI), 12 U.S.C. Section 1829, requires the FDIC's consent prior to any participation in the affairs of an insured depository institution by an individual who has been convicted of crimes involving dishonesty or breach of trust, and included drug-related convictions. To obtain that consent, certain individuals and insured depository institutions must submit an application to the FDIC for approval on Form FDIC 6710/07.

2. Title: Pillar 2 Guidance—Advanced Capital Framework.

OMB Number: 3064-0165.

Form Number: None.

Affected Public: Insured state nonmember banks and certain subsidiaries of these entities.

Burden Estimate:

Summary of Annual Burden
Information collection description | Type of burden | Obligation to respond | Estimated number of respondents | Estimated frequency of responses | Estimated time per response (hours) | Estimated annual burden (hours)
Pillar 2 Guidance | Recordkeeping | Voluntary | 1 | 4 | 105 hours | 420 hours

Total Estimated Annual Burden: 420 hours.

General Description of Collection: There has been no change in the method or substance of this information collection. The number of institutions subject to the record keeping requirements has decreased from eight (8) to two (2). In 2008 the Office of the Comptroller of the Currency, the Board of Governors of the Federal Reserve System and the FDIC issued a supervisory guidance document related to the supervisory review process of capital adequacy (Pillar 2) in connection with the implementation of the Basel II Advanced Capital Framework.1 Sections 37, 41, 43 and 46 of the guidance include possible information collections. Section 37 provides that banks should state clearly the definition of capital used in any aspect of its internal capital adequacy assessment process (ICAAP) and document any changes in the internal definition of capital. Section 41 provides that banks should maintain thorough documentation of its ICAAP. Section 43 specifies that the board of directors should approve the bank's ICAAP, review it on a regular basis and approve any changes. Section 46 recommends that boards of directors periodically review the assessment of overall capital adequacy and analyze how measures of internal capital adequacy compare with other capital measures such as regulatory or accounting.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on August 10, 2021.
James P. Sheesley,
Assistant Executive Secretary.

[FR Doc. 2021-17408 Filed 8-13-21; 8:45 am]

BILLING CODE 6714-01-P